DEPARTMENT OF COMMERCE

National Oceanic and Atmospheric Administration

RIN 0648-XG135

South Atlantic Fishery Management Council; Public Hearings

AGENCY: National Marine Fisheries Service (NMFS), National Oceanic and Atmospheric Administration (NOAA), Commerce.

ACTION: Notice of public hearings.

SUMMARY: The South Atlantic Fishery Management Council (Council) will hold a series of public hearings pertaining to Vision Blueprint Regulatory Amendments 26 and 27 to the Snapper Grouper Fishery Management Plan for the South Atlantic Region. The amendments address recreational (Amendment 26) and commercial (Amendment 27) measures as identified in the Council's Vision Blueprint for the Snapper Grouper Fishery.

DATES: The public hearings will be held via listening stations and webinar on May 8, May 9, and May 10, 2018.

ADDRESSES: The hearings will be held via webinar. See SUPPLEMENTARY INFORMATION for locations of listening stations.

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843/769-4520; email: kim.iverson@safmc.net.

SUPPLEMENTARY INFORMATION: The public hearings will be conducted via webinar with assigned listening stations. The public hearings will begin at 6 p.m. Registration for the webinars is required. Registration information will be posted on the Council's website at www.safmc.net as it becomes available. Listening stations for each hearing will be available at the following locations:

May 8, 2018 Webinar

Listening Stations

1. Haddrell's Point Tackle, 885 Ben Sawyer Blvd., Mount Pleasant, SC 29464.

2. Southeast Regional Branch Library, 10599 Deerwood Park Blvd., Jacksonville, FL 32256.

3. NC Division of Marine Fisheries, Southern District Office, 127 Cardinal Drive Extension, Wilmington, NC 28405.

May 9, 2018 Webinar

Listening Stations

1. Cocoa Beach Public Library, 550 N. Brevard Ave., Cocoa Beach, FL 32931.

2. NC Division of Marine Fisheries, Central District Office, 5285 Hwy 70 West, Morehead City, NC 28557.

May 10, 2018 Webinar

Listening Stations

1. Murrells Inlet Community Center, 4462 Murrells Inlet Road, Murrells Inlet, SC 29576.

2. Marathon Government Center, BOCC, 2798 Overseas Highway, 2nd Floor, Marathon, FL 33050.

3. Hatteras Community Building, 57689 NC Hwy 12, Hatteras, NC 27943.

Snapper Grouper Regulatory Amendment 26 (Recreational Visioning)

The draft regulatory amendment contains actions to address recreational measures as identified in the Council's Vision Blueprint for the Snapper Grouper Fishery. The amendment proposes modifying the species composition of recreational aggregates to better reflect how fishermen are currently fishing and allow more focused management measures (i.e., for deep-water species). Alternatives for aggregate bag limits, minimum size limits and gear requirements are included. The regulatory amendment also proposes modification to the spawning season closure for red grouper off the North and South Carolina coasts and modifying the minimum size limit for gray triggerfish off the east coast of Florida to bring consistency with regulations in state waters.

Snapper Grouper Regulatory Amendment 27 (Commercial Visioning)

The draft regulatory amendment contains actions to address commercial measures as identified in the Council's Vision Blueprint for the Snapper Grouper Fishery. The amendment addresses concerns over equitable access for commercial fishermen fishing in the snapper grouper fishery and proposes measures to help minimize discards. The regulatory amendment includes actions for split commercial seasons for blueline tilefish, snowy grouper, greater amberjack, and red porgy. The amendment also includes actions to modify the commercial trip limit for blueline tilefish, greater amberjack, red porgy, and vermilion snapper. Other measures include specifying a minimum size limit for almaco jack, implementing a trip limit for the Other Jacks complex, extending the seasonal closure for red grouper in federal waters off North Carolina and South Carolina, removing the minimum size limit for three deep-water snappers, and reducing the commercial minimum size limit for gray triggerfish off the east coast of Florida.

During the public hearings, Council staff will present an overview of each amendment and will be available for informal discussions and to answer questions via webinar. Area Council members will be present at each of the Listening Stations. Members of the public will have an opportunity to go on record to offer their comments for consideration by the Council.

Special Accommodations

These meetings are physically accessible to people with disabilities. Requests for auxiliary aids should be directed to the council office (see ADDRESSES) 3 days prior to the public hearings.

Note: The times and sequence specified in this agenda are subject to change.

Authority: 16 U.S.C. 1801 et seq.

Dated: April 17, 2018.
Tracey L. Thompson,
Acting Deputy Director, Office of Sustainable Fisheries, National Marine Fisheries Service.

[FR Doc. 2018-08326 Filed 4-19-18; 8:45 am]

BILLING CODE 3510-22-P